DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-0165.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Health Professions Student Loan (HPSL) Program and Nursing Student Loan (NSL) Program Administrative Requirements (Regulations and Policy) (OMB No. 0915-0047)—[Extension]

The regulations for the Health Professions Student Loan (HPSL) Program and Nursing Student Loan (NSL) Program contain a number of reporting and recordkeeping requirements for schools and loan applicants. The requirements are essential for assuring that borrowers are aware of rights and responsibilities, know the history and status of each loan account in order to pursue aggressive collection efforts to reduce default rates, and that they maintain adequate records for audit and assessment purposes. Schools are free to use improved information technology to manage the information required by the regulations.

The estimated total burden is 49,489 hours. The annualized burden estimates are as follows:

Recordkeeping Requirements
Regulatory/section requirements | Number of recordkeepers | Hours per year | Total burden hours
HPSL Program:
57.206(b)(2), Documentation of Cost of Attendance | 435 | 1.17 | 509
57.208(a), Promissory Note | 435 | 1.25 | 544
57.210(b)(1)(i), Documentation of Entrance Interview | 435 | 1.25 | 544
57.210(b)(1)(ii), Documentation of Exit Interview | * 477 | 0.33 | 157
57.215(a) & (d), Program Records | * 477 | 10 | 4,770
57.215(b), Student Records | *477 | 10 | 4,770
57.215(c), Repayment Records | * 477 | 18.75 | 8,944
HPSL Subtotal |  |  | 20,238
NSL Program:
57.306(b)(2)(ii), Documentation of Cost of Attendance | 304 | 0.3 | 91
57.308(a), Promissory Note | 304 | 0.5 | 152
57.310(b)(1)(i), Documentation of Entrance Interview | 304 | 0.5 | 152
57.310(b)(1)(ii), Documentation of Exit Interview | * 486 | 0.17 | 83
57.315(a)(1) & (a)(4), Program Records | * 486 | 5 | 2,430
57.315(a)(2), Student Records | * 486 | 1 | 486
57.215(b)(3), Repayment Records | * 486 | 2.51 | 1,220
NSL Subtotal |  |  | 4,614
* Includes active and closing schools.
HPSL data include active and closing Loans for Disadvantaged Students (LDS) program schools.

Reporting Requirements
Regulatory/section requirements | Number of respondents | Responses per respondent | Total annual responses | Hours per response | Total burden hours
HPSL Program:
57.206(a)(2), Student Financial Aid Transcript | 4,600 | 1 | 4,600 | 0.25 | 1,150
57.208(c), Loan Information Disclosure | 435 | 68.73 | 29,898 | 0.0833 | 2,490
57.210(b)(1)(i), Entrance Interview | 435 | 68.73 | 29,898 | 0.167 | 4,993
57.210(b)(1)(ii), Exit Interview | * 477 | 12 | 5,724 | 0.5 | 2,862
57.210(b)(1)(iii), Notification of Repayment | * 477 | 30.83 | 14,706 | 0.167 | 2,456
57.210(b)(1)(iv), Notification During Deferment | * 477 | 24.32 | 11,601 | 0.0833 | 966
57.210(b)(1)(vi), Notification of Delinquent Accounts | * 477 | 10.28 | 4,904 | 0.167 | 819
57.210(b)(1)(x), Credit Bureau Notification | * 477 | 8.03 | 3,830 | 0.6 | 2,298
57.210(b)(4)(i), Write-off of Uncollectable Loans | 20 | 1 | 20 | 3 | 60
57.211(a), Disability Cancellation | 10 | 1 | 10 | 0.75 | 8
57.215(a)(2), Administrative Hearings | 0 | 0 | 0 | 0 | 0
57.215(a)(d), Administrative Hearings | 0 | 0 | 0 | 0 | 0
HPSL Subtotal |  |  |  |  | 18,102
NSL Program:
57.306(a)(2), Student Financial Aid Transcript | 4,100 | 1 | 4,100 | 0.25 | 1,025
57.310(b)(1)(i), Entrance Interview | 304 | 23.51 | 7,147 | 0.167 | 1,193
57.310(b)(1)(ii), Exit Interview | * 486 | 3.77 | 1,832 | 0.5 | 916
57.310(b)(1)(iii), Notification of Repayment | * 486 | 6.18 | 3,003 | 0.167 | 501
57.310(b)(1)(iv), Notification During Deferment | * 486 | 0.65 | 316 | 0.083 | 26
57.310(b)(1)(vi), Notification of Delinquent Accounts | * 486 | 4.61 | 2,240 | 0.167 | 374
57.310(b)(1)(x), Credit Bureau Notification | * 486 | 8.3 | 4,033 | 0.6 | 2,420
57.310(b)(4)(i), Write-off of Uncollectable Loans | 20 | 1 | 20 | 3.5 | 70
57.311(a), Disability Cancellation | 10 | 1 | 10 | 0.8 | 8
57.315(a)(1)(ii), Administrative Hearings | 0 | 0 | 0 | 0 | 0
57.316(a)(d), Administrative Hearings | 0 | 0 | 0 | 0 | 0
NSL Subtotal |  |  |  |  | 6,535
* Includes active and closing schools.

E-mail comments to paperwork@hrsa.gov or mail the HRSA Reports Clearance Officer, Room 10-33, Parklawn Building, 5600 Fishers Lane, Rockville, MD 20857. Written comments should be received within 60 days of this notice.

Dated: September 13, 2011.
Reva Harris,
Acting Director, Division of Policy and Information Coordination.

[FR Doc. 2011-23892 Filed 9-16-11; 8:45 am]

BILLING CODE 4165-15-P